DEPARTMENT OF JUSTICE

Notice of Lodging of Consent Decree Under the Clean Water Act, the Comprehensive Environmental Response, Compensation, and Liability Act, the Emergency Planning and Community Right-To-Know Act, and the Park System Resource Protection Act

Under the policy set out at 28 CFR 50.7, notice is hereby given that on November 15, 2004, the United States lodged with the United States District Court for the Northern District of Iowa a proposed consent decree (“Consent Decree”) in the case of United States v. Iowa Turkey Products, Inc., Civ. A. No. C04-1045-LRR. The Consent Decree pertains to Iowa Turkey Products, Inc. (“ITP”), which owned a former turkey processing facility in Postville, Iowa. ITP discharged wastewater into a Publicly Owned Treatment Works (“POTW”) owned by the City of Postville (“City”). A related settlement with the City was lodged on October 15, 2004.

The Consent Decree would resolve claims in a Complaint filed, simultaneously with the lodging of the Consent Decree, by the United States against ITP for violations of Sections 301 and 307 of the Clean Water Act (“CWA”), 33 U.S.C. 1311 and 1317, and the Pretreatment Standards under the City's National Pollutant Discharge Elimination System Permit, pursuant to Section 402 of the CWA, 33 U.S.C. 1342. The Consent Decree would also resolve claims under Section 304 of the Emergency Planning and Community Right-to-Know Act (“EPCRA”), 42 U.S.C. 11004, and Section 103 of the Comprehensive Environmental Response, Compensation, and Recovery Act of 1980, as amended (“CERCLA”), 42 U.S.C. 9603, for failure to give notice of the release of anhydrous ammonia during a fire at the facility on December 20, 2003.

In addition, the Consent Decree would resolve claims by the United States for natural resource damages under Section 311 of the CWA, 33 U.S.C. 1321; Section 107 of CERCLA, 42 U.S.C. 9607; and the Park System Resource Protection Act, 16 U.S.C. 19jj, for unlawful discharges to the POTW that contributed to the release of hazardous substances during a March 2000 discharge event by the City. The March 2000 discharge event contributed to an aquatic life kill in the Yellow River.

The Consent Decree requires ITP to refrain from any future violations of the CWA, CERCLA, and EPCRA; to pay civil penalties for the CWA, EPCRA and CERCLA violations; and to pay natural resource damages, including compensatory restoration costs.

The Department of Justice will receive for a period of thirty (30) days from the date of this publication comments relating to the Consent Decree. Comments should be addressed to the Assistant Attorney General, Environmental and Natural Resources Division, P.O. Box 7611, U.S. Department of Justice, Washington, D.C. 20044-7611, and should refer to United States v. Iowa Turkey Products, DOJ Ref. No. 90-5-1-1-08078/1/.

The Consent Decree may be examined at the offices of the United States Attorney, Northern District of Iowa, 401 First Street, SE., Room 400, Cedar Rapids, IA 52401, and at the offices of U.S. EPA Region 7, 901 North 5th Street, Kansas City, Kansas 66101.

During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $6.75 (25 cents per page reproduction cost) payable to the U.S. Treasury.

Robert E. Maher, Jr.,
Assistant Chief, Environmental Enforcement Section, Environment and Natural Resources Division.

[FR Doc. 04-26509 Filed 11-30-04; 8:45 am]

BILLING CODE 4410-15-M